DEPARTMENT OF EDUCATION

Applications for New Awards; Educational Technology, Media, and Materials for Individuals With Disabilities Program—Innovative Technology-Based Approaches for Assessing Children With Disabilities

AGENCY: Office of Special Education and Rehabilitative Services, Department of Education.

ACTION: Notice.

SUMMARY: The Department of Education (Department) is issuing a notice inviting applications for new awards for fiscal year (FY) 2022 for Educational Technology, Media, and Materials for Individuals with Disabilities—Innovative Technology-Based Approaches for Assessing Children with Disabilities, Assistance Listing Number 84.327V. This notice relates to the approved information collection under OMB control number 1820-0028.

DATES:

Applications Available: March 3, 2022.

Deadline for Transmittal of Applications: May 2, 2022.

Deadline for Intergovernmental Review: July 1, 2022.

Pre-Application Webinar Information: No later than March 8, 2022, OSERS will post details on pre-recorded informational webinars designed to provide technical assistance to interested applicants. Links to the webinars may be found at www2.ed.gov/fund/grant/apply/osep/new-osep-grants.html.

ADDRESSES: For the addresses for obtaining and submitting an application, please refer to our Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS numbers is available at https://www2.ed.gov/about/offices/list/ofo/docs/unique-entity-identifier-transition-fact-sheet.pdf.

FOR FURTHER INFORMATION CONTACT: Rebecca Sheffield, U.S. Department of Education, 400 Maryland Avenue SW, Room 5040E, Potomac Center Plaza, Washington, DC 20202-5076. Telephone: (202) 245-6725. Email: Rebecca.Sheffield@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the Educational Technology, Media, and Materials for Individuals with Disabilities Program (ETechM2 Program) is to improve results for students with disabilities by: (1) Promoting the development, demonstration, and use of technology; (2) supporting educational media activities designed to be of educational value in the classroom for students with disabilities; (3) providing support for captioning and video description that is appropriate for use in the classroom; and (4) providing accessible educational materials to students with disabilities in a timely manner.

Priority: This competition includes one absolute priority. In accordance with 34 CFR 75.105(b)(2)(v), this priority is from allowable activities specified in the statute (see sections 674(b)(2) and 681(d) of the Individuals with Disabilities Education Act (IDEA); 20 U.S.C. 1474(b)(2) and 1481(d)).

Absolute Priority: For FY 2022 and any subsequent year in which we make awards from the list of unfunded applications from this competition, this priority is an absolute priority. Under 34 CFR 75.105(c)(3), we consider only applications that meet this priority.

This priority is:

Innovative Technology-Based Approaches for Assessing Children with Disabilities.

Background:

Assessment is an essential component of being able to provide a high-quality education and learning opportunities to infants, toddlers, children, and youth with disabilities (children with disabilities). It involves regularly collecting information to be able to make individualized decisions about the services and supports needed to promote a child's development, learning, and achievement. The COVID-19 pandemic caused a significant disruption to how children with disabilities were assessed and highlighted the need to leverage more equitable, innovative, reliable, and valid technology-based approaches for assessing children with disabilities.

Traditionally, most assessments are completed in-person by early intervention providers, teachers, and school-based clinicians. The pandemic required early intervention service providers and local educational agency (LEA) staff to utilize remote assessments and identify technology-based approaches to assess children with disabilities. While this was done with varied levels of success, the pandemic demonstrated that technology-based approaches to assessment have the potential to enhance both in-person and remote assessment processes.

Innovative technology-based approaches to assessment provide a number of benefits, including—

• Providing new sources of data on children's performance. For example, technology can expand opportunities to conduct authentic assessments and observations of children with disabilities in natural environments and in multiple settings, both in person and online, with greater involvement from families. This can allow teachers and service providers to prioritize different data when making decisions about necessary services and supports for a child with a disability.

• Enabling teachers and service providers to more efficiently collect, organize, and share data when monitoring children's performance and progress. This can lead to improved coordination, collaboration, and data-driven decision-making among team members, which can enhance children's outcomes.

• Improving access to high-quality assessments for children with disabilities. Increased access can be particularly important in rural and remote areas to connect children with disabilities to specialists from professions experiencing critical shortages (e.g., functional vision and orientation and mobility assessments for children who are visually impaired or deafblind) (Landa-Vialard et al., 2018).

• Connecting English learners with disabilities to providers who speak their home languages, to ensure appropriate and individualized support for children's cultural and linguistic needs (Hoover, 2018).

• Providing additional flexibility and innovative strategies for children with disabilities who are homebound, hospitalized, migratory, and experiencing homelessness.

While there are many potential benefits to using technology-based assessment processes, there is limited knowledge of existing strategies and best practices for using technology to conduct assessments and deciding which types of technology-based approaches to use. Farmer et al. (2020) and Stifel et al. (2020) suggest that thorough analysis and guidance is necessary when using technical adaptations to assessments. Guidance is needed to support decision makers (i.e., school and program administrators, assessment administrators, teachers, and service providers) in examining the limitations of technology to ensure they maintain assessments' validity and reliability as well as meet legal requirements.

Additionally, it is important for decision makers to understand and track how technology-based approaches to assessment could inadvertently magnify cultural and socioeconomic disparities. Families and schools in high-need communities or in rural or remote areas may have less access to needed technology equipment, unreliable internet, or less comfort and experience using technology (Hanrahan et. al, 2020).

Finally, for technology-based approaches to assessment to be equitable, they must be accessible to children with various disabilities who use various communication modes (e.g., students with deafness, autism, visual impairment including blindness). Teachers and service providers need training, support, and professional development to successfully implement technology-based approaches to assessment. Although personnel preparation programs may include standards to address the application of assessment tools and measures, these programs do not necessarily address the knowledge and skills involved in using remote or virtual assessment formats (Jenkins & Walker, 2021).

The Department intends to fund two cooperative agreements to develop the knowledge base and disseminate information about technology-based approaches to assessment for children with disabilities. Through these agreements, the Department seeks to increase equitable access to high-quality assessment and build greater flexibility within assessment approaches, to respond to changing environments and technology.

Priority:

The purpose of this priority is to fund two cooperative agreements to establish and operate projects on Innovative Technology-Based Approaches for Assessing Children with Disabilities (projects). Projects must achieve, at a minimum, the following expected outcomes:

(a) Increased body of knowledge on equitable and innovative approaches for implementing and integrating technology into informal and formal assessments ¹ to gather valid and reliable information on children's strengths and needs; developmental, academic, and functional skills; and learning progress to inform IFSPs and IEPs, eligibility determinations, instruction, and interventions.

¹ For the purposes of this priority, “assessment” and “assessing” refer to formal and informal methods to collect individualized data on children's strengths and needs; developmental, academic, and functional skills; and learning progress to inform individualized family service plans (IFSPs) and individualized education programs (IEPs), eligibility determinations, instruction, and interventions. Program-wide or school-wide assessments, such as large-scale State and district wide assessments or universal screening, are not within the scope of this priority.

(b) Increased awareness of existing and project-developed tools, methods, and frameworks to support informed, systematic decision-making for technology-based approaches to assessments by early intervention service providers, school districts, educators, and families.²

² Note: This priority does not support the development or validation of procedures for technology-based administration of published standardized assessment tools.

Focus Areas:

Within this absolute priority, the Secretary intends to support one project under each of the following focus areas: (A) Innovative Technology-Based Approaches for Assessing Infants, Toddlers, and Preschool-Age Children with Disabilities; and (B) Innovative Technology-Based Approaches for Assessing School-Age Children with Disabilities.

Applicants must identify the specific focus area (i.e., A or B) under which they are applying as part of the competition title on the application cover sheet (SF 424, line 12 and Abstract). Applicants that apply under both focus areas must submit an application for each focus area.

Focus Area A: Innovative Technology-Based Approaches for Assessing Infants, Toddlers, and Preschool-Age Children with Disabilities. A project in this focus area must develop the knowledge base and disseminate resources to support the effective use of technology-based approaches to assessments with infants, toddlers, and preschool-age children and their families referred to, or receiving, early intervention and early childhood special education services.

Focus Area B: Innovative Technology-Based Approaches for Assessing School-Age Children with Disabilities. A project in this focus area must develop the knowledge base and disseminate resources to support the effective use of technology-based approaches to assessments of school-age children referred to, or receiving, special education services.

Note: The Office of Special Education Programs (OSEP) may fund a high-quality application out of rank order to ensure that projects are funded in both focus areas.

In addition to these programmatic requirements, to be considered for funding under this priority, applicants must meet the following application and administrative requirements in this priority:

(a) Demonstrate, in the narrative section of the application under “Significance,” how the proposed project will—

(1) Address the need in the field for knowledge and decision-making frameworks to support the effective use of technology-based approaches to assessments of children with disabilities, including technology-based approaches to conduct assessments of children in hard-to-reach settings with limited access to technology, with users that may have difficulty engaging with technology, and for children requiring specialized assessments (e.g., disability-specific assessments requiring specially trained assessors and assessments delivered in languages other than English). To meet this requirement the applicant must—

(i) Demonstrate knowledge of existing, and emerging trends in, technology-based approaches to assessment of children with disabilities;

(ii) Demonstrate knowledge of current educational and policy issues and national initiatives relating to technology-based approaches to assessments of children with disabilities; and

(iii) Demonstrate knowledge of the implementation supports that are needed to implement new technology-based approaches to assessment for children with disabilities (e.g., personnel preparation and professional development, ongoing consultation and coaching, data systems, and administrative supports); and

(2) Develop the knowledge base to increase the capacity of local and State early intervention and special education systems to make informed decisions on technology-based approaches to assessment and indicate the importance of systems developing this capacity.

(b) Demonstrate, in the narrative section of the application under “Quality of project services,” how the proposed project will—

(1) Ensure equal access and treatment for members of groups that have traditionally been underrepresented based on race, color, national origin, gender, age, or disability. To meet this requirement, the applicant must describe how it will—

(i) Identify the needs of the intended recipients for technical assistance (TA) and information;

(ii) Ensure that services and products meet the needs of the intended recipients of the grant; and

(iii) Address the needs of children with disabilities who live in rural or remote ³ areas and high-need communities who may experience barriers to assessment due to scarcity of qualified personnel or limitations in internet connectivity, and children from racially and ethnically diverse backgrounds, including those who are English learners;

³ For the purposes of this priority, a “rural or remote” area or population is an area or population within one of the U.S. territories, freely associated States, or outlying areas or within a reservation, or that is served by a school district whose locale type is classified as rural according to 2019 or 2020 data from the National Center for Education Statistics locale classifications. Please see https://nces.ed.gov/programs/maped/LocaleLookup/.

(2) Achieve its goals, objectives, and intended outcomes. To meet this requirement, the applicant must provide—

(i) Measurable intended project outcomes; and

(ii) In Appendix A, the logic model ⁴ by which the proposed project will achieve its intended outcomes that depicts, at a minimum, the goals, activities, outputs, and intended outcomes of the proposed project;

⁴ Logic model (34 CFR 77.1) (also referred to as a theory of action) means a framework that identifies key project components of the proposed project (i.e., the active “ingredients” that are hypothesized to be critical to achieving the relevant outcomes) and describes the theoretical and operational relationships among the key project components and relevant outcomes.

(3) Use a conceptual framework (and provide a copy in Appendix A) to develop project plans and activities, describing any underlying concepts, assumptions, expectations, beliefs, or theories, as well as the presumed relationships or linkages among these variables, and any empirical support for this framework;

Note: The following website provides more information on logic models and conceptual frameworks: www.osepideasthatwork.org/logicModel.

(4) Be based on current research and make use of evidence-based practices (EBPs).⁵ To meet this requirement, the applicant must describe—

⁵ For the purposes of this priority, “evidence-based practices” means practices that, at a minimum, demonstrate a rationale (as defined in 34 CFR 77.1), where a key project component included in the project's logic model is informed by research or evaluation findings that suggest the project component is likely to improve relevant outcomes.

(i) The current research on practices to support assessment of children with disabilities, technology-based approaches to assessment, and the use of technology to improve access to assessment;

(ii) The current research about adult learning principles and implementation science that will inform any proposed products; and

(iii) How the proposed project will incorporate current research and practices in the development and delivery of its products and services;

(5) Develop products and provide services that are of sufficient intensity and duration to achieve the intended outcomes of the proposed project. To address this requirement, the applicant must describe—

(i) How it proposes to identify and develop the knowledge base on—

(A) Current best practices and tools for implementing and integrating technology into informal and formal assessments to gather valid and reliable information on children's strengths and needs; developmental, academic, and functional skills; and learning progress, to inform IFSPs and IEPs, eligibility determinations, instruction, and interventions;

(B) Promising technology-based innovations and approaches to assessment, including practices and tools that could be used to gather valid and reliable information across a variety of settings and environments on children's strengths and needs; developmental, academic, and functional skills; and learning progress, to inform IFSPs and IEPs, eligibility determinations, instruction, and interventions. Promising innovations and approaches may involve how to—

(1) Design accessibility and support features for technology-based assessment;

(2) Individualize assessment strategies;

(3) Identify and address participation barriers; and

(4) Provide training and professional development to relevant stakeholders on innovative strategies for assessment and data-based decision-making;

(C) The strengths, limitations, and potential outcomes of existing and emerging technology-based assessment tools and methods in a range of forms and contexts (e.g., early childhood settings, homes, virtual schools, traditional classrooms), and the available evidence for these strengths, limitations, and outcomes;

(D) Technology-based approaches that increase equity in the assessment of children with disabilities, including approaches to observing children and families; collecting valid and reliable child performance and progress data; and understanding and applying assessment findings to inform the development of culturally and linguistically appropriate IEPs and IFSPs;

(E) Practices and strategies to enhance the accessibility and equity of technology-based approaches to assessment for all children with disabilities, including strategies for users that may have difficulty engaging with technology; in settings with limited access; and for children requiring specialized assessments to promote equitable developmental, academic, and functional outcomes;

(F) Existing and emerging methods and approaches for preparation of personnel to select, implement, and act upon the results of technology-based assessments; and

(G) Implementation supports and system capacity that are needed to implement technology-based approaches to assessment, including supports for administrators and other systems-level decision-makers to develop policies and procedures for State and local agencies regarding the selection, procurement, implementation, and use of technology-based approaches to assessments;

(ii) How it proposes to develop, validate, and disseminate frameworks, based on research and identified promising practices, to support informed and effective decision-making on the systematic implementation and use of technology-based approaches to assessment, for use by practitioners, administrators, and local and State agencies; and

(iii) Its proposed approach to universal, general TA,⁶ which must identify the intended recipients, including the type and number of recipients, that will receive the products and services, a description of the products and services that the project proposes to make available, and the expected impact of those products and services under this approach;

⁶ “Universal, general TA” means TA and information provided to independent users through their own initiative, resulting in minimal interaction with project staff and including one-time, invited or offered conference presentations by project staff. This category of TA also includes information or products, such as newsletters, guidebooks, or research syntheses, downloaded from the project's website by independent users. Brief communications by project staff with recipients, either by telephone or email, are also considered universal, general TA.

(6) Develop products and implement services that maximize efficiency. To address this requirement, the applicant must describe—

(i) How the proposed project will use technology to achieve the intended project outcomes;

(ii) With whom the proposed project will collaborate, the process by which the project will collaborate with OSEP-funded projects and centers, and the intended outcomes of the collaboration. Projects must collaborate with the other project funded under this priority; and

(iii) How the proposed project will use non-project resources to achieve the intended project outcomes; and

(7) Develop a dissemination plan that describes how the applicant will systematically distribute information to varied intended audiences, using a variety of dissemination strategies.

(c) In the narrative section of the application under “Quality of the project evaluation,” include a detailed and complete description of the evaluation activities and measures to be incorporated into the proposed project's research plan and knowledge development activities. The description must include—

(1) Formative and summative evaluation questions, including important process and outcome evaluation questions. These questions should be related to the project's proposed logic model required in paragraph (b)(2)(ii) of this priority;

(2) A formative evaluation plan to address evaluation questions, consistent with the project's logic model, that includes sources of data, a timeline for data collection, analysis plans, and staff assignments for completing the plan. The plan must show how periodic review and feedback will be incorporated in the formative evaluation and used to improve the project during the performance period. These data will be reported in the annual performance report (APR). The plan also must outline how evaluation data will be reviewed by project staff, when they will be reviewed, and how they will be used during the course of the project to adjust the project's activities to increase and extend the usefulness and generalizability of the knowledge development activities; and

(3) A summative evaluation plan, including a timeline and staff assignments for completing the plan, to collect and analyze data on stakeholder awareness of resources and decision-making frameworks developed and disseminated by the project. The plan must show how the knowledge development activities will be used to inform stakeholder decision-making about technology-based assessment approaches for children with disabilities.

(d) Demonstrate, in the narrative section of the application under “Adequacy of resources and quality of project personnel,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and services provided are of high quality, relevant, and useful to recipients; and

(4) The proposed project will benefit from a diversity of perspectives, including those of families, educators, TA providers, researchers, and policy makers, among others, in its development and operation. This must include how the proposed project will engage a technical work group (TWG) comprised of individuals with expertise in assessment of children with disabilities, including those from culturally and linguistically diverse backgrounds, and technology-based approaches to assessment to provide technical advice and engage with stakeholders throughout the project period.

(f) Address the following application requirements. The applicant must—

(1) Include, in Appendix A, personnel-loading charts and timelines, as applicable, to illustrate the management plan described in the narrative;

(2) Include, in the budget, attendance at the following:

(i) A one and one-half day virtual kick-off meeting after receipt of the award, and an annual virtual meeting with the OSEP project officer and other relevant staff during each subsequent year of the project period.

Note: Within 30 days of receipt of the award, a post-award teleconference must be held between the OSEP project officer and the grantee's project director or other authorized representative; and

(ii) A two and one-half day project directors' conference in Washington, DC, during each year of the project period. If the conference will be conducted virtually, projects will be notified that they need to reallocate funds for travel no later than the end of the third quarter of each budget period;

(3) Maintain a high-quality website, with an easy-to-navigate design, that meets government or industry-recognized standards for accessibility;

(4) Ensure that annual project progress toward meeting project goals is posted on the project website; and

(5) Include, in Appendix A, an assurance to assist OSEP with the transfer of pertinent resources and products during the transition to a new award at the end of this award period, as appropriate.

References:

Farmer, R.L., McGill, R.J., Dombrowski, S.C., Benson, N.F., Smith-Kellen, S., Lockwood, A.B., Powell, S., Pynn, C.P., & Stinnett, T.A. (2020). Conducting psychoeducational assessments during the COVID-19 crisis: The danger of good intentions. Contemporary School Psychology, 25, 27-32. https://doi.org/10.1007/s40688-020-00293-x.

Hanrahan, B.V., Ma, N.F., Betanzos, E., & Savage, S. (2020, June). Reciprocal research: Providing value in design research from the outset in the rural United States. ICTD2020: Proceedings of the 2020 International Conference on Information and Communications Technologies and Development, (31) 1-5. https://doi.org/10.1145/3392561.3397585.

Hoover, J.J., Erickson, J.R., Herron, S.R., & Smith, C.E. (2018). Implementing culturally and linguistically responsive special education eligibility assessment in rural county elementary schools: Pilot project. Rural Special Education Quarterly, 37(2), 90-102. https://doi.org/10.1177/8756870518761879.

Jenkins, M., & Walker, J.D. (2021, Spring). COVID-19 practices in special education: Stakeholder perceptions for teacher preparation. Teacher Educators' Journal, 14, 83-105. https://files.eric.ed.gov/fulltext/EJ1296277.pdf.

Landa-Vialard, O., Ely, M.S., & Lartz, M.N. (2018). Early learning visual impairment services training and advancement (EL VISTA) project: Leading the way for a new profession within a profession. Journal of Visual Impairment & Blindness, 112(1), 103-112. https://doi.org/10.1177/0145482X1811200110.

Stifel, S.W., Feinberg, D.K., Zhang, Y., Chan, M.-K., & Wagle, R. (2020). Assessment during the COVID-19 pandemic: Ethical, legal, and safety considerations moving forward. School Psychology Review, 49(4), 438-452. https://doi.org/10.1080/2372966X.2020.1844549.

Waiver of Proposed Rulemaking: Under the Administrative Procedure Act (APA) (5 U.S.C. 553), the Department generally offers interested parties the opportunity to comment on proposed priorities. Section 681(d) of IDEA, however, makes the public comment requirements of the APA inapplicable to the priority in this notice.

Program Authority: 20 U.S.C. 1474 and 1481.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to institutions of higher education (IHEs) only.

II. Award Information

Type of Award: Cooperative agreements.

Estimated Available Funds: The Administration has requested $29,547,000 for the Educational Technology, Media, and Materials for Individuals with Disabilities program for FY 2022, of which we intend to use an estimated $1,000,000 for this competition. The actual level of funding, if any, depends on final congressional action. However, we are inviting applications to allow enough time to complete the grant process if Congress appropriates funds for this program.

Contingent upon the availability of funds and the quality of applications, we may make additional awards in FY 2023 from the list of unfunded applications from this competition.

Maximum Award: We will not make an award exceeding $500,000 for a single budget period of 12 months.

Estimated Number of Awards: 2.

Note: The Department is not bound by any estimates in this notice.

Project Period: Up to 36 months.

III. Eligibility Information

1. Eligible Applicants: State educational agencies (SEAs); State lead agencies under Part C of the IDEA; LEAs, including public charter schools that are considered LEAs under State law; IHEs; other public agencies; private nonprofit organizations; freely associated States and outlying areas; Indian Tribes or Tribal organizations; and for-profit organizations.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application. Under 34 CFR 75.708(e), a grantee may contract for supplies, equipment, and other services in accordance with 2 CFR part 200.

4. Other General Requirements:

(a) Recipients of funding under this competition must make positive efforts to employ and advance in employment qualified individuals with disabilities (see section 606 of IDEA).

(b) Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 27, 2021 (86 FR 73264) and available at www.federalregister.gov/d/2021-27979, which contain requirements and information on how to submit an application. Please note that these Common Instructions supersede the version published on February 13, 2019, and, in part, describe the transition from the requirement to register in SAM.gov a DUNS number to the implementation of the UEI. More information on the phase-out of DUNS numbers is available at https://www2.ed.gov/about/offices/list/ofo/docs/unique-entity-identifier-transition-fact-sheet.pdf.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are listed below:

(a) Significance (15 points).

(1) The Secretary considers the significance of the proposed project.

(2) In determining the significance of the proposed project, the Secretary considers the following factors:

(i) The potential contribution of the proposed project to increased knowledge or understanding of educational problems, issues, or effective strategies.

(ii) The extent to which specific gaps or weaknesses in services, infrastructure, or opportunities have been identified and will be addressed by the proposed project, including the nature and magnitude of those gaps or weaknesses.

(iii) The extent to which the proposed project involves the development or demonstration of promising new strategies that build on, or are alternatives to, existing strategies.

(b) Quality of the project design (35 points).

(1) The Secretary considers the quality of the design of the proposed project.

(2) In determining the quality of the design of the proposed project, the Secretary considers the following factors:

(i) The extent to which the goals, objectives, and outcomes to be achieved by the proposed project are clearly specified and measurable.

(ii) The extent to which the design of the proposed project includes a thorough, high-quality review of the relevant literature, a high-quality plan for project implementation, and the use of appropriate methodological tools to ensure successful achievement of project objectives.

(iii) The extent to which the design of the proposed project reflects up-to-date knowledge from research and effective practice.

(iv) The extent to which the design of the proposed project is appropriate to, and will successfully address, the needs of the target population or other identified needs.

(v) The extent to which performance feedback and continuous improvement are integral to the design of the proposed project.

(c) Adequacy of resources and quality of the management plan (30 points).

(1) The Secretary considers the adequacy of resources and the quality of the management plan for the proposed project.

(2) In determining the adequacy of resources and the quality of the management plan for the proposed project, the Secretary considers the following factors:

(i) The adequacy of support, including facilities, equipment, supplies, and other resources, from the applicant organization or the lead applicant organization.

(ii) The relevance and demonstrated commitment of each partner in the proposed project to the implementation and success of the project.

(iii) The extent to which the time commitments of the project director and principal investigator and other key project personnel are appropriate and adequate to meet the objectives of the proposed project.

(iv) How the applicant will ensure that a diversity of perspectives are brought to bear in the operation of the proposed project, including those of parents, teachers, the business community, a variety of disciplinary and professional fields, recipients or beneficiaries of services, or others, as appropriate.

(v) The adequacy of the management plan to achieve the objectives of the proposed project on time and within budget, including clearly defined responsibilities, timelines, and milestones for accomplishing project tasks.

(vi) The adequacy of mechanisms for ensuring high-quality products and services from the proposed project.

(d) Quality of the project evaluation (20 points).

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation will provide performance feedback and permit periodic assessment of progress toward achieving intended outcomes.

(iii) The extent to which the methods of evaluation provide for examining the effectiveness of project implementation strategies.

(iv) The extent to which the methods of evaluation include the use of objective performance measures that are clearly related to the intended outcomes of the project and will produce quantitative and qualitative data to the extent possible.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works.

Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For purposes of Department reporting under 34 CFR 75.110, the Department has established a set of performance measures, including long-term measures, that are designed to yield information on various aspects of the effectiveness and quality of the ETechM2 Program. These measures are:

• Program Performance Measure 1: The percentage of ETechM2 Program products and services judged to be of high quality by an independent review panel of experts qualified to review the substantial content of the products and services.

• Program Performance Measure 2: The percentage of ETechM2 Program products and services judged to be of high relevance to improving outcomes for infants, toddlers, children, and youth with disabilities.

• Program Performance Measure 3: The percentage of ETechM2 Program products and services judged to be useful in improving results for infants, toddlers, children, and youth with disabilities.

• Program Performance Measure 4.1: The Federal cost per unit of accessible educational materials funded by the ETechM2 Program.

• Program Performance Measure 4.2: The Federal cost per unit of accessible educational materials from the National Instructional Materials Accessibility Center funded by the ETechM2 Program.

• Program Performance Measure 4.3: The Federal cost per unit of video description funded by the ETechM2 Program.

The measures apply to projects funded under this competition, and grantees are required to submit data on these measures as directed by OSEP.

Grantees will be required to report information on their project's performance in annual and final performance reports to the Department (34 CFR 75.590).

The Department will also closely monitor the extent to which the products and services provided by the project meet needs identified by stakeholders and may require the project to report on such alignment in its annual and final performance reports.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Katherine Neas,
Deputy Assistant Secretary. Delegated the authority to perform the functions and duties of the Assistant Secretary for the Office of Special Education and Rehabilitative Services.

[FR Doc. 2022-04420 Filed 3-2-22; 8:45 am]

BILLING CODE 4000-01-P